DEPARTMENT OF COMMERCE

Economic Development Administration

[Docket No. 090528927-9927-01]

Solicitation of Applications for Economic Development Assistance Programs

AGENCY: Economic Development Administration (EDA), Department of Commerce

ACTION: Notice and request for applications.

Pursuant to the Public Works and Economic Development Act of 1965, as amended (42 U.S.C. 3121 et seq.) (PWEDA), EDA announces general policies and application procedures for grant-based investments under the Public Works, Planning, Local Technical Assistance, and Economic Adjustment Assistance Programs to promote comprehensive, entrepreneurial and innovation-based economic development efforts to enhance the competitiveness of regions, resulting in increased private investment and higher-skill, higher-wage jobs in areas experiencing substantial and persistent economic distress.

DATES: Applications are accepted on a continuing basis and processed as received. Generally, two months are required for EDA to reach a final decision after receipt of a complete application that meets all requirements. Applications received after the date of this notice will be processed in accordance with the requirements set forth herein and in the related federal funding opportunity (FFO) announcement, until the next annual FFO is posted on www.grants.gov and related notice and request for applications is published in the Federal Register.

Application Submission Requirements: The applicant is advised to read carefully the instructions contained in both the complete FFO announcement for this request for applications, and in the Application for Investment Assistance (Form ED-900).

To apply for assistance under any of EDA's programs, an applicant must submit a complete Form ED-900. EDA will continue to require additional government-wide federal grant assistance forms from the Standard Form (SF) 424 family and certain Department of Commerce (CD) forms as part of the application package. The specific SF forms required with the Form ED-900 depend on whether the applicant seeks construction or non-construction assistance. The following will assist applicants in determining which forms are required for a complete application. Please see the section below entitled “Obtaining Application Packages” for information.

Applicants seeking assistance for a project with construction components are required to complete and submit the following:

(i) Form ED-900 (Application for Investment Assistance);

(ii) Form SF-424 (Application for Federal Assistance);

(iii) Form SF-424C (Budget Information—Construction Programs);

(iv) Form SF-424D (Assurances—Construction Programs); and

(v) Form CD-511 (Certification Regarding Lobbying).

Applicants seeking assistance for a project without construction components are required to complete and submit the following forms:

(i) Form ED-900 (Application for Investment Assistance);

(ii) Form SF-424 (Application for Federal Assistance);

(iii) Form SF-424A (Budget Information—Non-Construction Programs);

(vi) Form SF-424B (Assurances—Non-Construction Programs); and

(v) Form CD-511 (Certification Regarding Lobbying).

Applicants for both construction and non-construction assistance may be required to submit to an individual background screening on the form titled Applicant for Funding Assistance (Form CD-346) and to provide certain lobbying information using the form titled Disclosure of Lobbying Activities (Form SF-LLL). The Form ED-900 provides detailed guidance to help the applicant assess whether Forms CD-346 and SF-LLL are required and how to access them.

Content and Form of the Form ED-900: The applicant is advised to read carefully the instructions contained in this notice, the complete FFO announcement, and all forms contained in the appropriate application package. It is the sole responsibility of the applicant to ensure that the appropriate application package is complete and received by EDA.

The Form ED-900 is divided into lettered sections that correspond to specific EDA program components (e.g., Local or National Technical Assistance; Construction Assistance), which address all of EDA's statutory and regulatory requirements. Only the first section, Section A, solicits general information regarding a proposed project and must be completed by all applicants for any type of assistance. Section B solicits specific economic data to help EDA assess an applicant's regional eligibility for Public Works or Economic Adjustment Assistance, and Section C solicits information to help EDA determine the applicant's maximum allowable investment rate for Planning, Local and National Technical Assistance, University Center, or Research and Evaluation projects. Section D solicits documents from non-governmental applicants relevant to organizational capacity and structure. The remaining sections solicit information essential for EDA to assess project effectiveness and competitiveness by program type, such as project coordination with existing economic development strategies and potential impact. Sections E, F, G, H, I, J, K, L, M, and N solicit such information from applicants for Non-Construction, Planning, Short-Term Planning, State Planning, Local or National Technical, University Center, Economic Adjustment, Revolving Loan Fund, Construction, and Design and Engineering Assistance, respectively. The Form ED-900 also contains a series of exhibits, which include EDA and Department of Commerce assurances and the Calculation of Estimated Relocation and Land Acquisition Expenses. The text of the Form ED-900 specifies which exhibits are required for each type of applicant.

Please note that an applicant need not complete all sections of the Form ED-900. As noted above, the sections an applicant must complete are determined by the program under which funding is sought and the nature of the applicant. Based on program type, the following table details the sections and exhibits in the ED-900 that the applicant must complete. This table also is provided on the first page of the Instructions to the Form ED-900.

EDA program | Required form ED-900 sections
Public Works | Complete Sections A, B, and M and Exhibits A, D, and E.
Economic Adjustment | Complete Sections A, B, and K and Exhibit C. Also complete Sections M and Exhibits A, D, and E if the application has construction components and Section N if the application has only design/engineering requirements. Complete Section E if the application has no construction components.
Partnership Planning | Complete Sections A, C, E, and F and Exhibit C.
Short-Term Planning | Complete Sections A, C, E, and G and Exhibit C.
State Planning | Complete Sections A, C, E, G, and H and Exhibit C.
University Center | Complete Sections A, C, E, and J and Exhibit C.
Local Technical Assistance | Complete Sections A, C, E, and I and Exhibit C.
National Technical Assistance | Complete Sections A, C, E, and I and Exhibit B.
Research and Evaluation Assistance | Complete Sections A, C, E and Exhibit B.
Revolving Loan Fund | Complete Sections A, B, E, K, and L and Exhibit C.
Design and Engineering | Complete Sections A, B, and N and Exhibit C.

Obtaining Application Packages: An applicant may obtain the appropriate application package electronically at www.grants.gov. All components of the appropriate application package may be accessed and downloaded (in a screen-fillable format) at http://www.grants.gov/applicants/apply_for_grants.jsp. Alternatively, applicants eligible for assistance under this notice may request paper (hardcopy) application packages by contacting the applicable EDA regional office servicing your geographic area listed below under “Addresses and Telephone Numbers for EDA's Regional Offices.”

Application Submission Formats: Applications may be submitted either (i) electronically in accordance with the procedures provided at www.grants.gov; or (ii) in paper (hardcopy) format to the applicable regional office address provided below. The content of applications is the same for paper submissions as it is for electronic submissions. EDA will not accept facsimile transmissions of applications.

Electronic Submissions: Applicants are encouraged to submit applications electronically in accordance with the instructions provided at www.grants.gov. The preferred file format for electronic attachments is portable document format (PDF); however, EDA will accept electronic files in Microsoft Word, WordPerfect, or Microsoft Excel formats. Validation or rejection of your application by www.grants.gov may take additional days after your submission. Therefore, please consider the www.grants.gov validation/rejection process in developing your application submission timeline.

Applicants should access the following link for assistance in navigating www.grants.gov and for a list of useful resources: http://www.grants.gov/applicants/applicant_help.jsp. If you do not find an answer to your question under Frequently Asked Questions, try consulting the Applicant's User Guide. If you still cannot find an answer to your question, contact www.grants.gov via e-mail at support@grants.gov or telephone at 1-800-518-4726. The hours of operation for www.grants.gov are Monday-Friday, 7 a.m. to 9 p.m. (Eastern Time) (except for federal holidays).

Paper Submissions: An eligible applicant under this notice may submit a completed paper application to the applicable EDA regional office listed below. The applicant must submit one original and two copies of the appropriate completed application package via postal mail, shipped overnight, or hand-delivered to the applicable regional office, unless otherwise directed by EDA staff. Department of Commerce mail security measures may delay receipt of United States Postal Service mail for up to two weeks. Therefore, applicants who submit paper submissions are advised to use guaranteed overnight delivery services.

Addresses and Telephone Numbers for EDA's Regional Offices: Applicants in Alabama, Florida, Georgia, Kentucky, Mississippi, North Carolina, South Carolina and Tennessee, may submit paper submissions to: Economic Development Administration, Atlanta Regional Office, 401 West Peachtree Street, NW., Suite 1820, Atlanta, Georgia 30308, Telephone: (404) 730-3002, Fax: (404) 730-3025.

Applicants in Arkansas, Louisiana, New Mexico, Oklahoma and Texas, may submit paper submissions to: Economic Development Administration, Austin Regional Office, 504 Lavaca, Suite 1100, Austin, Texas 78701-2858, Telephone: (512) 381-8144, Fax: (512) 381-8177.

Applicants in Illinois, Indiana, Michigan, Minnesota, Ohio, Wisconsin and Muscatine and Scott counties, Iowa, may submit paper submissions to: Economic Development Administration, Chicago Regional Office, 111 North Canal Street, Suite 855, Chicago, Illinois 60606, Telephone: (312) 353-7706, Fax: (312) 353-8575.

Applicants in Colorado, Iowa (excluding Muscatine and Scott counties), Kansas, Missouri, Montana, Nebraska, North Dakota, South Dakota, Utah and Wyoming, may submit paper submissions to: Economic Development Administration, Denver Regional Office, 410 17th Street, Suite 250, Denver, Colorado 80202, Telephone: (303) 844-4714, Fax: (303) 844-3968.

Applicants in Connecticut, Delaware, District of Columbia, Maine, Maryland, Massachusetts, New Hampshire, New Jersey, New York, Pennsylvania, Puerto Rico, Rhode Island, Vermont, U.S. Virgin Islands, Virginia and West Virginia, may submit paper submissions to: Economic Development Administration, Philadelphia Regional Office, Curtis Center, 601 Walnut Street, Suite 140 South, Philadelphia, Pennsylvania 19106, Telephone: (215) 597-4603, Fax: (215) 597-1063.

Applicants in Alaska, American Samoa, Arizona, California, Guam, Hawaii, Idaho, Marshall Islands, Micronesia, Nevada, Northern Mariana Islands, Oregon, Republic of Palau and Washington, may submit paper submissions to: Economic Development Administration, Seattle Regional Office, Jackson Federal Building, Room 1890, 915 Second Avenue, Seattle, Washington 98174, Telephone: (206) 220-7660, Fax: (206) 220-7669.

FOR FURTHER INFORMATION CONTACT: For additional information or for a paper copy of the FFO announcement, contact the appropriate EDA regional office listed above. EDA's Internet Web site at http://www.eda.gov also contains additional information on EDA and its programs.

SUPPLEMENTARY INFORMATION: Program Information: EDA's mission is to lead the federal economic development agenda by promoting innovation and competitiveness, preparing American regions for growth and success in the worldwide economy. In implementing this mission pursuant to its authorizing statute, PWEDA, EDA advances economic growth by assisting communities and regions experiencing chronic high unemployment and low per capita income to create an environment that fosters innovation, promotes entrepreneurship, and attracts increased private capital investment. EDA encourages the submission of only those applications that will significantly benefit regions with distressed economies. Distress may exist in a variety of forms, including high levels of unemployment, low income levels, large concentrations of low-income families, significant declines in per capita income, large numbers (or high rates) of business failures, sudden major layoffs or plant closures, trade impacts, military base closures, natural or other major disasters, depletion of natural resources, reduced tax bases, or substantial loss of population because of the lack of employment opportunities. It is EDA's experience that regional economic development to alleviate these conditions is effected primarily through investments and decisions made by the private sector. Therefore, EDA funding generally must be matched by non-EDA funds. See section III.C. of the applicable FFO for more information.

EDA will evaluate and select applications according to the investment policy guidelines and funding priorities set forth below under “Evaluation Criteria” and “Funding Priorities” and in section V. of the FFO announcement.

Electronic Access: The complete FFO announcement for the FY 2009 Economic Development Assistance Programs competition is available at www.grants.gov and at www.eda.gov.

Funding Availability: Funding appropriated under the Omnibus Appropriations Act, 2009 (Pub. L. 111-08, 123 Stat. 524, 561 (2009)) is available for the economic development assistance programs authorized by PWEDA and for the Trade Adjustment Assistance for Firms Program (TAAF Program) authorized under the Trade Act of 1974, as amended (19 U.S.C. 2341-2391) (Trade Act). Funds in the amount of $240,000,000 have been appropriated for FY 2009 and shall remain available until expended.

Under this announcement, approximately $196,972,592 is available for the (i) Public Works and Economic Development Facilities Program; (ii) Planning Program; (iii) Local Technical Assistance Program; and (iv) Economic Adjustment Assistance Program. The funding periods and funding amounts referenced in the FFO announcement are subject to the availability of funds at the time of award, as well as to Department of Commerce and EDA priorities at the time of award. The Department of Commerce and EDA will not be held responsible for application preparation costs. Publication of this notice and the FFO announcement does not obligate the Department of Commerce or EDA to award any specific grant or cooperative agreement or to obligate all or any part of available funds.

From amounts otherwise made available for the economic development assistance programs authorized by PWEDA, EDA is allocating $14,700,000 in FY 2009 to the Global Climate Change Mitigation Incentive Fund to support projects that foster economic competitiveness while enhancing environmental quality. EDA anticipates that these funds will be used to promote the green economy through projects that enhance sustainability, diversify the economy, and result in 21st century higher-skill, higher-wage jobs. An applicant eligible for funding under this initiative should apply in the same manner that it would apply for Economic Adjustment Assistance Program funding and should include in the project narrative a detailed explanation of how the proposed project will help advance the goals of the Global Climate Change Mitigation Incentive Fund. Please see section II.A.5 of the applicable FFO. For more information on the goals of this initiative, contact the designated point of contact listed in section VIII.B. of the applicable FFO for the EDA regional office servicing your geographic area.

EDA expects to post a separate FFO announcement(s) at www.grants.gov and at http://www.eda.gov that will set forth the specific funding priorities, application and selection processes, time frames, and evaluation criteria for certain National Technical Assistance and Research and Evaluation projects to be funded with FY 2009 appropriations. A separate FFO announcement dated February 20, 2009, regarding the FY 2009 University Center competition in EDA's Atlanta and Seattle regional offices, has been posted at www.grants.gov and at http://www.eda.gov.

Under the Trade Act, EDA administers the TAAF Program to provide technical assistance to firms adversely affected by increased import competition. EDA anticipates that appropriated funds will be used to extend new cooperative agreements to the existing network of 11 Trade Adjustment Assistance Centers, and to provide technical assistance to firms certified as eligible under the TAAF Program. See 13 CFR part 315.

Statutory Authorities: The authorities for the (i) Public Works and Economic Development Facilities Program; (ii) Planning Program; (iii) Local Technical Assistance Program; and (iv) Economic Adjustment Assistance Program are sections 201 (42 U.S.C. 3141), 203 (42 U.S.C. 3143), 207 (42 U.S.C. 3147), and 209 (42 U.S.C. 3149) of PWEDA, respectively. Unless otherwise provided in this notice or in the FFO announcement, applicant eligibility, program objectives and priorities, application procedures, evaluation criteria, selection procedures, and other requirements for all programs are set forth in EDA's regulations (codified at 13 CFR chapter III) and applicants must address these requirements. EDA's regulations and PWEDA are available at http://www.eda.gov/InvestmentsGrants/Lawsreg.xml.

Catalog of Federal Domestic Assistance (CFDA) Numbers: 11.300, Grants for Public Works and Economic Development Facilities; 11.302, Economic Development—Support for Planning Organizations; 11.303, Economic Development—Technical Assistance; 11.307, Economic Adjustment Assistance.

Applicant Eligibility: Pursuant to PWEDA, eligible applicants for and eligible recipients of EDA investment assistance include a(n): (i) District Organization; (ii) Indian Tribe or a consortium of Indian Tribes; (iii) State, a city or other political subdivision of a State, including a special purpose unit of a State or local government engaged in economic or infrastructure development activities, or a consortium of political subdivisions; (iv) institution of higher education or a consortium of institutions of higher education; or (v) public or private non-profit organization or association acting in cooperation with officials of a political subdivision of a State. See section 3 of PWEDA (42 U.S.C. 3122) and 13 CFR 300.3. Projects eligible for Public Works or Economic Adjustment investment assistance include those projects located in regions meeting “Special Need” criteria (defined in 13 CFR 300.3), as set forth in section VII. of the FFO announcement. For-profit, private-sector entities are not eligible to apply for investment assistance under this notice.

Cost Sharing Requirement: Generally, the amount of the EDA grant may not exceed 50 percent of the total cost of the project. Projects may receive an additional amount that shall not exceed 30 percent, based on the relative needs of the region in which the project will be located, as determined by EDA. See section 204(a) of PWEDA (42 U.S.C. 3144) and 13 CFR 301.4(b)(1). For Planning Assistance, the minimum EDA investment rate for projects under 13 CFR part 303 is 50 percent, and the maximum allowable EDA investment rate may not exceed 80 percent. See 13 CFR 301.4(b)(3). For projects of a national scope under 13 CFR part 306 (Training, Research and Technical Assistance), and for all other projects under 13 CFR part 306, the Assistant Secretary of Commerce for Economic Development has the discretion to establish a maximum EDA investment rate of up to 100 percent where the project (i) merits, and is not otherwise feasible without, an increase to the EDA investment rate; or (ii) will be of no or only incidental benefit to the recipient. See section 204(c)(3) of PWEDA (42 U.S.C. 3144) and 13 CFR 301.4(b)(4). The Assistant Secretary has the discretion to establish a maximum EDA investment rate of up to 100 percent of the total project cost in the case of EDA investment assistance to a(n) (i) Indian Tribe, (ii) State (or political subdivision of a State) that the Assistant Secretary determines has exhausted its effective taxing and borrowing capacity, or (iii) non-profit organization that the Assistant Secretary determines has exhausted its effective borrowing capacity. See sections 204(c)(1) and (2) of PWEDA (42 U.S.C. 3144) and 13 CFR 301.4(b)(5). Potential applicants should contact the appropriate EDA regional office to make these determinations.

In the application review process, EDA will consider the nature of the contribution (cash or in-kind) and the amount of the matching share funds. EDA will give preference to applications that include cash contributions (over in-kind contributions) as the matching share. While cash contributions are preferred, in-kind contributions, fairly evaluated by EDA, may provide the required non-federal share of the total project cost. See section 204(b) of PWEDA (42 U.S.C. 3144) and section III.B. of the FFO announcement for this request for applications. In-kind contributions, which may include forgiveness or assumptions of debt, and contributions of space, equipment or services, are eligible to be included as part of the non-federal share of eligible project costs if they meet applicable federal cost principles and uniform administrative requirements. Funds from other federal financial assistance awards are considered matching share funds only if authorized by statute, which may be determined by EDA's reasonable interpretation of the statute. See 13 CFR 300.3. The applicant must show that the matching share is committed to the project for the project period, will be available as needed and is not conditioned or encumbered in any way that precludes its use consistent with the requirements of EDA investment assistance. See 13 CFR 301.5.

Intergovernmental Review: Applications for assistance under EDA's programs are subject to the State review requirements imposed by Executive Order 12372, “Intergovernmental Review of Federal Programs.”

Evaluation and Selection Procedures: Each application package is circulated by a project officer within the applicable EDA regional office for review and comments. When the necessary input and information are obtained, the application is considered by the regional office's Investment Review Committee (IRC), which is comprised of regional office staff. The IRC discusses the application and evaluates it on two levels to (a) determine if the application meets the program-specific award and application requirements provided in 13 CFR 305.2 for Public Works investments, 13 CFR 303.3 for Planning investments, 13 CFR 306.2 for Local and National Technical Assistance, and 13 CFR 307.2 and 307.4 for Economic Adjustment Assistance; and (b) evaluate it using the general evaluation criteria set forth in 13 CFR 301.8. These general evaluation criteria also are provided below under “Evaluation Criteria.”

The IRC recommends to the Regional Director whether an application merits further consideration, documenting its recommendation. For quality control assurance, EDA Headquarters reviews the IRC's analysis of the project's fulfillment of the investment policy guidelines set forth below under “Evaluation Criteria,” in section V.B. of the FFO, and in 13 CFR 301.8. After receiving quality control clearance, the Selecting Official, who is the Regional Director, considers the evaluations provided by the IRC and the degree to which one or more of the funding priorities provided below are included, in making his/her decision as to which applications merit further consideration.

To limit the burden on the applicant, EDA requests additional documentation only if EDA determines that the applicant's project merits further consideration. The Form ED-900 provides detailed guidance on documentation, information, and other materials that will be requested if, and only if, EDA selects the project for further consideration. EDA will inform the applicant if its application has been selected for further consideration or if the application has not been selected for funding.

Evaluation Criteria: EDA will select applications competitively based on the investment policy guidelines and funding priority considerations identified in this notice. EDA will evaluate the extent to which a project embodies the maximum number of investment policy guidelines and funding priorities possible and strongly exemplifies at least one of each. All investment applications will be competitively evaluated primarily on their ability to satisfy the following investment policy guidelines, each of equivalent weight and which also are set forth in 13 CFR 301.8.

1. Be market-based and results driven. An EDA investment will capitalize on a region's competitive strengths and will positively move a regional economic indicator, such as: an increased number of higher-skill, higher-wage jobs; increased tax revenue; or increased private sector investment.

2. Have strong organizational leadership. An EDA investment will have strong leadership, relevant project management experience, and a significant commitment of human resources talent to ensure a project's successful execution.

3. Advance productivity, innovation and entrepreneurship. An EDA investment will enable entrepreneurship, enhance regional industry clusters, and leverage and link technology innovators and local universities to the private sector to create the conditions for greater productivity, innovation, and job creation.

4. Look beyond the immediate economic horizon, anticipate economic changes, and diversify the local and regional economy. An EDA investment will be part of an overarching, long-term comprehensive economic development strategy that enhances a region's success in achieving a rising standard of living by supporting existing industry clusters, developing emerging new clusters, or attracting new regional economic drivers.

5. Demonstrate a high degree of local commitment by exhibiting:

• High levels of local government or non-profit matching funds and private sector leverage;

• Clear and unified leadership and support by local elected officials; and

• Strong cooperation between the business sector, relevant regional partners and local, State and federal governments.

In addition to using the investment policy guidelines set forth above, EDA also will evaluate all Planning Assistance applications based on the (i) quality of the proposed scope of work for the development, implementation, revision or replacement of a comprehensive economic development strategy (CEDS); and (ii) qualifications of the applicant to implement the goals and objectives resulting from the CEDS. See 13 CFR 303.3(a)(1) and (2). To ensure that the application fully meets these requirements, the applicant should pay particular attention to 13 CFR 303.7(b), which sets forth specific technical requirements for the CEDS.

Funding Priorities: Successful applications for EDA's investment programs will be regionally driven initiatives in areas of the Nation that are underperforming and eligible for EDA assistance, and that meet one or more of the following core criteria (investment applications that meet more than one core criterion will be given more favorable consideration):

1. Investments in support of long-term, coordinated and collaborative regional economic development approaches:

• Establish comprehensive regional economic development strategies that identify promising opportunities for long-term economic growth.

• Exhibit demonstrable, committed multi-jurisdictional support from leaders across all sectors:

i. Public (e.g., mayors, city councils, county executives, senior state leadership);

ii. Institutional (e.g., institutions of higher learning);

iii. Non-profit (e.g., chambers of commerce, development organizations); and

iv. Private (e.g., leading regional businesses, significant regional industry associations).

• Generate quantifiable positive economic outcomes.

2. Investments that support innovation and competitiveness:

• Develop and enhance the functioning and competitiveness of leading and emerging industry clusters in an economic region.

• Advance technology transfer from research institutions to the commercial marketplace.

• Bolster critical infrastructure (e.g., transportation, communications, specialized training) to prepare economic regions to compete in the world-wide marketplace.

3. Investments that encourage entrepreneurship:

• Cultivate a favorable entrepreneurial environment consistent with regional strategies.

• Enable economic regions to identify innovative opportunities among growth-oriented small and medium-size enterprises.

• Promote community and faith-based entrepreneurship programs aimed at improving economic performance in an economic region.

4. Investments in support of strategies that link regional economies with the global marketplace:

• Enable businesses, local governments and key institutions (e.g., higher education) to understand and take advantage of the numerous free trade agreements implemented in the last seven years.

• Enable economic development professionals to develop and implement strategies that reflect the competitive environment of the 21st Century global marketplace.

• Build strategies to help regional economies boost exports.

• Promote foreign direct investment.

5. Additional considerations:

• Respond to sudden and severe economic dislocations (e.g., major layoffs, plant closures or disasters).

• Enable BRAC-impacted communities to transition from a military to civilian economy.

• Advance the goals of linking historic preservation and economic development as outlined by Executive Order 13287, “Preserve America.”

• Support the economic revitalization of brownfields.

• Implement the Global Climate Change Mitigation Incentive Fund as set forth in section II.A.5 of the FFO.

The Department of Commerce Pre-Award Notification Requirements for Grants and Cooperative Agreements: The administrative and national policy requirements for all Department of Commerce awards, contained in the Department of Commerce Pre-Award Notification Requirements for Grants and Cooperative Agreements, published in the Federal Register on February 11, 2008 (73 FR 7696), are applicable to this competitive solicitation.

Paperwork Reduction Act: This document contains collection-of-information requirements subject to the Paperwork Reduction Act (PRA). The use of Form ED-900 (Application for Investment Assistance) has been approved by the Office of Management and Budget (OMB) under the Control Number 0610-0094. The use of Forms SF-424 (Application for Financial Assistance), SF-424A (Budget Information—Non-Construction Programs), SF-424B (Assurances—Non-Construction Programs), SF-424C (Budget Information—Construction Programs), and SF-424D (Assurances—Construction Programs) has been approved under OMB Control Numbers 4040-0004, 0348-0044, 4040-0007, 4040-0008, and 4040-0009, respectively. The Form CD-346 (Applicant for Funding Assistance) is approved under OMB Control Number 0605-0001, and Form SF-LLL (Disclosure of Lobbying Activities) is approved under OMB Control Number 0348-0046. Notwithstanding any other provision of law, no person is required to respond to, nor shall any person be subject to a penalty for failure to comply with, a collection of information subject to the requirements of the PRA unless that collection of information displays a currently valid OMB Control Number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: June 18, 2009.
Dennis Alvord,
Acting Deputy Assistant Secretary of Commerce for Economic Development .

[FR Doc. E9-14822 Filed 6-23-09; 8:45 am]

BILLING CODE 3510-24-P